DEPARTMENT OF HOMELAND SECURITY

U.S. Customs and Border Protection

DEPARTMENT OF THE TREASURY

19 CFR Parts 12, 102, 141, 144, 146, and 163

[CBP Dec. 11-09; USCBP-2005-0009]

RIN 1515-AD57 (Formerly RIN 1505-AB60)

Country of Origin of Textile and Apparel Products; Correction

AGENCIES: U.S. Customs and Border Protection, Department of Homeland Security; Department of the Treasury.

ACTION: Final rule; correction.

SUMMARY: Customs and Border Protection (CBP) published in the Federal Register of March 17, 2011, a document which adopted as a final rule, with some changes, interim amendments to the CBP regulations to revise, update, and consolidate the regulatory provisions relating to the country of origin of textile and apparel products. The final rule document contained two errors in the Background portion of the document. The first error concerns an inadvertent reference to imported “antique Persian carpets” in an example prepared by CBP. Because carpets of Iranian-origin are currently prohibited from importation into the United States, the example should not have referenced Persian antique carpets. The example is changed to reflect a non-prohibited article—a Turkish antique carpet. The second error consists of an outdated Internet address that was provided by CBP relating to certain instructions for the completion of CBP Form 7501. This document corrects these two errors.

DATES: Effective on March 24, 2011.

FOR FURTHER INFORMATION CONTACT: Roberts Abels, Textile Operations, Office of International Trade, (202) 863-6503.

SUPPLEMENTARY INFORMATION: CBP published a final rule document in the Federal Register of March 17, 2011 (76 FR 14575), concerning the country of origin of textile and apparel products. The Background portion of the document included two errors: (1) An inadvertent reference to “Persian” carpets instead of “Turkish” carpets in an example provided by CBP; and (2) an outdated Internet address concerning certain instructions for the completion of CBP Form 7501. This document corrects these two errors.

In rule FR Doc. 2011-6253 published on March 17, 2011 (76 FR 14575), make the following corrections:

(1) On page 14579, in the first column, remove the word “Persian” in the first bullet point and add in its place the word “Turkish”;

(2) On page 14581, in the second column, remove the parenthetical Internet address and add in its place the Internet address “(http://www.cbp.gov/linkhandler/cgov/trade/trade_programs/entry_summary/cbp7501/7501_instruction.ctt/7501_instruction.doc)”.

Dated: March 18, 2011.
Harold M. Singer,
Director, Regulations and Disclosure Law Division, U.S. Customs and Border Protection.

[FR Doc. 2011-6945 Filed 3-23-11; 8:45 am]

BILLING CODE 9111-14-P